MILLENNIUM CHALLENGE CORPORATION

[MCC FR 10-01]

Notice of the December 11, 2008 Millennium Challenge Corporation Board of Directors Meeting; Sunshine Act Meeting

AGENCY: Millennium Challenge Corporation.

Time and Date: 10 a.m. to 12 p.m., Wednesday, December 9, 2009.

Place: Department of State, 2201 C Street, NW., Washington, DC 20520.

FOR FURTHER INFORMATION CONTACT: Information on the meeting may be obtained from Romell Cummings via e-mail at Board@mcc.gov or by telephone at (202) 521-3600.

Status: Meeting will be closed to the public.

Matters to be Considered: The Board of Directors (the “Board”) of the Millennium Challenge Corporation (“MCC”) will hold a meeting to consider the selection of countries that will be eligible for FY 2010 Millennium Challenge Account (“MCA”) assistance under Section 607 of the Millennium Challenge Act of 2003 (the “Act”), codified at 22 U.S.C. 7706; discuss proposed restructuring of the Mongolia Compact; and certain administrative matters. The agenda items are expected to involve the consideration of classified information and the meeting will be closed to the public.

Dated: November 20, 2009.
Henry C. Pitney,
(Acting) Vice President and General Counsel, Millennium Challenge Corporation.

[FR Doc. E9-28268 Filed 11-20-09; 4:15 pm]

BILLING CODE 9211-03-P